POSTAL SERVICE

Temporary Emergency Committee of the Board of Governors; Sunshine Act Meeting

DATES AND TIMES: Thursday, February 5, 2015, at 10:00 a.m.; and Friday, February 6, at 8:30 a.m. and 10:30 a.m.

PLACE: Washington, DC, at U.S. Postal Service Headquarters, 475 L'Enfant Plaza SW., in the Benjamin Franklin Room.

STATUS: Thursday, February 5 at 10:00 a.m.—Closed; Friday, February 6 at 8:30 a.m.—Open; and Friday, February 6 at 10:30 a.m.—Closed. (Via notational voting, the Temporary Committee of the Board of Governors of the United States Postal Service voted unanimously to close to public observation its meeting scheduled for February 5 and a portion of the meeting scheduled for February 6, 2015, in Washington, DC).

MATTERS TO BE CONSIDERED:

Thursday, February 5, at 10:00 a.m. (Closed)

1. Strategic Issues.

2. Pricing.

3. Financial Matters.

4. Personnel Matters and Compensation Issues.

5. Governors' Executive Session—Discussion of prior agenda items and Board governance.

Friday, February 6, at 8:30 a.m. (Open)

1. Remarks of the Chairman of the Temporary Emergency Committee.

2. Remarks of the Postmaster General and CEO.

3. Approval of Minutes of Previous Meetings.

4. Committee Reports and Assignments.

5. Quarterly Report on Financial Performance.

6. Quarterly Service Performance Report.

7. Tentative Agenda for the April 13 and 14 Meeting.

Friday, February 6, at 10:30 a.m. (Closed)

1. Continuation of Thursday's closed session agenda.

GENERAL COUNSEL CERTIFICATION: The General Counsel of the United States Postal Service has certified that the meeting may be closed under the Government in the Sunshine Act.

FOR FURTHER INFORMATION CONTACT: Requests for information about the meeting should be addressed to the Secretary of the Board, Julie S. Moore, at 202-268-4800.

Julie S. Moore,
Secretary, Board of Governors.

[FR Doc. 2015-01091 Filed 1-20-15; 11:15 am]

BILLING CODE P